DEPARTMENT OF JUSTICE

Drug Enforcement Administration

[Docket No. DEA-748]

Bulk Manufacturer of Controlled Substances Application: Sterling Pharma USA, LLC

AGENCY: Drug Enforcement Administration, Justice.

ACTION: Notice of application.

SUMMARY: Sterling Pharma USA, LLC has applied to be registered as a bulk manufacturer of basic class(es) of controlled substance(s). Refer to Supplemental Information listed below for further drug information.

DATES: Registered bulk manufacturers of the affected basic class(es), and applicants therefore, may file written comments on or objections to the issuance of the proposed registration on or before February 9, 2021. Such persons may also file a written request for a hearing on the application on or before February 9, 2021.

ADDRESSES: Written comments should be sent to: Drug Enforcement Administration, Attention: DEA Federal Register Representative/DPW, 8701 Morrissette Drive, Springfield, Virginia 22152.

SUPPLEMENTARY INFORMATION: In accordance with 21 CFR 1301.33(a), this is notice that on August 24, 2020, Sterling Pharma USA, LLC, 1001 Sheldon Drive, Suite 101, Cary, North Carolina 27513-2079, applied to be registered as a bulk manufacturer of the following basic class(es) of controlled substance(s):

Controlled substance | Drug code | Schedule
Tetrahydrocannabinols | 7370 | I

The company plans to manufacture in bulk drug code 7370 (Tetrahydrocannabinols) exclusively from hemp extract, for distribution and sale to its customers. No other activities for this drug code is authorized for this registration.

William T. McDermott,
Assistant Administrator.

[FR Doc. 2020-27240 Filed 12-10-20; 8:45 am]

BILLING CODE 4410-09-P